DEPARTMENT OF JUSTICE

Antitrust Division

Notice Pursuant to the National Cooperative Research and Production Act of 1993—Information Warfare Research Project Consortium

Notice is hereby given that, on April 15, 2020, pursuant to Section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, Agile Defense Inc., Reston, VA; ALEX—Alternative Experts LLC, Dumfries, VA; Altron Incorporated, Mount Pleasant, SC; Aptima Inc., Woburn, MA; Aptive Resources LLC, Alexandria, VA; Assured Space Access Technologies Inc., Chandler, AZ; Attila Security, Columbia, MD; Aurotech Inc., Silver Spring, MD; Aviation & Missile Solutions LLC, Huntsville, AL; Azimuth Corporation, Beavercreek, OH; Box Inc., Redwood City, CA; Bracari LLC, Mount Pleasant, SC; Canvass Labs Inc., La Jolla, CA; Catalyst Solutions LLC, Stafford, VA; Colorado Engineering Inc., Colorado Springs, CO; CommScope Technologies LLC, Hickory, NC; Contour Crafting Corporation, Marina Del Rey, CA; Creoal Consulting LLC, Bethesda, MD; CRISP LLC, Spotsylvania, VA; Cyber COAST Inc., Arlington, VA; Digital Receiver Technology, Germantown, MD; Dux Global Inc. dba EXEPRON, Lafayette, LA; Envistacom LLC, Atlanta, GA; EPS Corporation, Tinton Falls, NJ; FLIR Systems Inc., North Billerica, MA; General Atomics Aeronautical Systems Inc., Poway, CA; Genesis Dimensions LLC, Houston, TX; Herrick Technology Laboratories Inc., Germantown, MD; IDS International Government Services LLC, Arlington, VA; iGov Technologies Inc., Tampa, FL; Intuitive Research and Technology Corporation, Huntsville, AL; JMark Services Inc., Colorado Springs, CO; Juno Technologies, Inc., Rancho Sante Fe, CA; KOAM Engineering Systems (KES), San Diego, CA; Kratos RT Logic Inc., Colorado Springs, CO; Lewiz Communications Inc., San Jose, CA; Lexington Solutions Group, Lexington, VA; Long Wave Inc., Oklahoma City, OK; Micro Focus Government Solutions LLC (MFGS), Vienna, VA; Newmoyer Geospatial Solutions LLC (NGS), Mount Pleasant, SC; NexTech Solutions LLC, Orange Park, FL; nGap Incorporated, Bonsall, CA; OneRAN LLC, Sunnyvale, CA; Optimal Solutions and Technologies (OST, Inc.), McLean, VA; Parallel Wireless Inc., Nashua, NH; PI Radio Inc., Brooklyn, NY; Polaris Alpha Advanced Systems Inc., Fredericksburg, VA; Redcom Laboratories Inc., Victor, NY; Ridgewood Technology Partners LLC, Reston, VA; Rubrik Inc., Palo Alto, CA; Shared Spectrum Company, Vienna, VA; Southeastern Computer Consultants Inc. (SCCI), Frederick, MD; SSI, Sterling Heights, MI; Steampunk Inc., Mclean, VA; Swish Data Corporation, McLean, VA; Teksouth Corporation, Gardendale, AL; TRABUS Technologies, San Diego, CA; TrellisWare Technologies Inc., San Diego, CA; Veritone Inc., Costa Mesa, CA; Vidoori, Silver Spring, MD; Vidrovr Inc., New York, NY; Wireless Systems Solutions LLC, Cary, NC; and XSITE LLC, San Diego, CA have been added as parties to this venture.

Also, At The Table Productions, Santa Monica, CA; BCF Solutions Inc., Chantilly, VA; Management Services Group Inc. dba Global Technical Systems (GTS), Virginia Beach, VA; Mercom Incorporated (DBA Mercom Corporation), Pawleys Island, SC; Pacific Aerospace Consulting Inc., San Diego, CA; Planck Aerosystems Inc., San Diego, CA; Quark Security Inc., Columbia, MD; Rocket Technology Inc., Richmond, VA; Semper Valens Solutions Inc., Canyon Lake, TX; The Arcanum Group Inc., Englewood, CO; TrustedQA Inc., Reston, VA; Virginia Polytechnic Institute and State University (Virginia Tech), Blacksburg, VA; Wang Electro-Opto Corporation, Marietta, GA; and Wyle Laboratories (KBR), Lexington Park, MD have withdrawn from this venture.

No other changes have been made in either the membership or planned activity of the group research project. Membership in this group research project remains open, and IWRP intends to file additional written notifications disclosing all changes in membership.

On October 15, 2018, IWRP filed its original notification pursuant to Section 6(a) of the Act. The Department of Justice published a notice in the Federal Register pursuant to Section 6(b) of the Act on October 23, 2018 (83 FR 53499).

The last notification was filed with the Department on January 21, 2020. A notice was published in the Federal Register pursuant to Section 6(b) of the Act on January 31, 2020 (85 FR 5706).

Suzanne Morris,
Chief, Premerger and Division Statistics Unit, Antitrust Division.

[FR Doc. 2020-09596 Filed 5-4-20; 8:45 am]

BILLING CODE 4410-11-P